DEPARTMENT OF TRANSPORTATION

National Highway Traffic Safety Administration

[U.S. DOT Docket No. NHTSA-2012-0121]

Reports, Forms, and Recordkeeping Requirements

AGENCY: National Highway Traffic Safety Administration (NHTSA), DOT.

ACTION: Notice of request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections. This document describes one collection of information for which NHTSA intends to seek OMB approval.

DATES: Comments must be received on or before October 23, 2012.

ADDRESSES: Comments should refer to the docket number and be submitted to: U.S. Department of Transportation, Docket Management Facility, West Building, 1200 New Jersey Avenue SE., Room W12-140, Washington, DC 20590. Docket hours are 9 a.m. to 5 p.m., Monday through Friday, except Federal holidays. You may call the docket at 202-647-5527. You may also submit comments electronically at www.regulations.gov.

FOR FURTHER INFORMATION CONTACT: Ms. Amy Berning, Contracting Officer's Technical Representative, Office of Behavioral Safety Research (NTI-131), National Highway Traffic Safety Administration, 1200 New Jersey Avenue SE., Washington, DC 20590.

Ms. Berning's phone number is 202-366-5587 and the email address is amy.berning@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

National Roadside Survey of Alcohol and Drugged Driving 2013

Type of Request—New information collection requirement.

OMB Clearance Number—None.

Form Number—This collection of information uses no standard forms.

Requested Expiration Date of Approval—3 years from date of approval.

Summary of the Collection of Information—NHTSA proposes to conduct a study to estimate the prevalence of alcohol-, drug-, and alcohol-and-drug-involved driving, primarily among nighttime weekend drivers, but also daytime Friday drivers, on our Nation's roadways. A minimum of 7,500 drivers at various locations across the country will be interviewed anonymously at the roadside to: (1) Determine the prevalence of drivers at various BACs, and (2) determine the prevalence of drivers with the presence of various (over-the-counter, prescription, and illegal) drugs in their system. Trained survey teams will obtain data on alcohol and drug use of drivers through passive alcohol sensors (PASs), preliminary breath-test samples, oral fluid samples, and, for a subset of the drivers, blood samples. Each driver will be asked several questions regarding their general driving behavior, alcohol use, drinking-and-driving behavior, drug use, and drugged-driving behavior. Some demographic data will be recorded as well.

Data collection would take place over a six month period at 60 different locations across the United States, with five data collection sites within each location for a total of 300 data collection sites. Researchers would conduct surveys with at least 7,500 drivers. The research team will consist of a survey manager, a licensed phlebotomist, data collectors, and two off-duty law enforcement officers. Law enforcement officers will wave vehicles into the survey site, and then a data collector will ask the driver to participate in a voluntary, anonymous, research survey.

The survey includes questions about alcohol and drug use and impaired driving, a Blood Alcohol Concentration (BAC) breath test, collection of an oral fluid specimen, and collection of a blood sample. The results of the breath and biological samples will not be known to the researchers on site. Breath alcohol test results will be downloaded and analyzed later. Biological samples will be analyzed later at a central laboratory by a trained toxicologist.

Drivers must be at least age 16 to participate (18 years to provide a blood sample), speak English or Spanish, not be in emotional or physical distress, not be driving a commercial vehicle, and be able to understand that they are being asked to voluntarily participate in a confidential research study.

A road sign will indicate “Voluntary Survey Ahead.” The team's police officer will flag down the first available vehicle after the data collector indicates that he/she is ready to commence data collection. The data collector will invite the driver to participate in a voluntary anonymous research survey and explain the details of the data collection. The same survey questions as noted above will be used. There will be a total of at least 7,500 subjects.

Description of the Need for the Information and Proposed Use of the Information—The National Highway Traffic Safety Administration's (NHTSA) mission is to save lives, prevent injuries, and reduce healthcare and other economic costs associated with motor vehicle crashes. The agency's goal is to reduce the rate of fatalities in alcohol-related (.08+ BAC) crashes per 100 million vehicle miles traveled, 0.45 in 2011 (the rate in 2006 was .50). NHTSA also has the responsibility to reduce drug-involved driving. While much is known about alcohol-involved driving, relatively little is known about drug-involved driving associated with drivers having consumed psychoactive drugs other than alcohol, alone and in combination with alcohol. This study would significantly add to the body of knowledge about that important issue, providing critical data on alcohol-, drug-, and alcohol-and-drug-involved drivers on the road. The alcohol use prevalence estimates among drivers will be compared with previous National Roadside Surveys conducted in 1973, 1986, 1996, and 2007. The drug use prevalence estimates will be compared with the results of the 2007 National Roadside Survey, the first time these data were collected. The results of the study will be used by NHTSA to help guide policy development and countermeasure programs intended to reduce the risk on our highways presented by impaired drivers.

Description of the Likely Respondents (Including Estimated Number, and Proposed Frequency of Response to the Collection of Information)—Under this proposed effort, the Contractor would collect data from approximately 7,500 subjects. Data collection would take place over a six month period at 60 different sites across the United States, with five data collection sites within each location for a total of 300 data collection locations.

Estimate of the Total Annual Reporting and Record Keeping Burden Resulting from the Collection of Information—NHTSA estimates that participants will spend an average of 20 minutes each to complete the survey, for a total of approximately 2,500 hours for the study respondents. The respondents would not incur any reporting cost or record keeping burden from the data collection.

Authority: 44 U.S.C. Section 3506(c)(2)(A).

Issued on: August 21, 2012.
Jeffrey P. Michael,
Associate Administrator for Research and Program Development.

[FR Doc. 2012-20940 Filed 8-23-12; 8:45 am]

BILLING CODE 4910-59-P